DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by December 26, 2024. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Generic Clearance of Survey Improvement Projects.

OMB Control Number: 0535-0248.

Summary of Collection: The primary function of the National Agricultural Statistics Service is to prepare and issue State and National estimates which include crop and livestock production, economic and environmental inputs, whole farm characteristics and operator demographics (covered by the Census of Agriculture) under the general authority of 7 U.S.C. 2204. NASS is requesting the renewal of a generic clearance in order to respond quickly to emerging issues and data collection needs. The agricultural industry and economy continue to change, and NASS needs to continuously evaluate its surveys in light of these changes. Respondents continue to change (e.g., response rates decrease over time), technology continues to change (e.g., the Web quickly became a data collection option), and data needs continue to change. In addition, our understanding of how to improve surveys continues to evolve (e.g., the application of cognitive psychology to survey methodology has increased our understanding of surveys). The generic clearance structure allows NASS to meet these information needs using a means that minimizes respondent and administrative burden. Thus, NASS requests an ongoing OMB clearance structure in place to continue to improve the overall quality of its statistical surveys, to lessen the burden it places on respondents, and to shorten the time period between changes that affect surveys and NASS' ability to formulate and update its surveys to address those changes. Prior to each test, NASS will submit to OMB a mini supporting statement that will describe the details of each specific test, along with a sample of the questions or questionnaire that will be tested.

Need and Use of the Information: The information obtained from these efforts will be used to develop new NASS surveys and improve current ones. Specifically, the information will be used to reduce respondent burden while simultaneously improving the quality of the data collected in these surveys. These objectives are met when respondents are presented with plain, coherent and unambiguous questionnaires that ask for data compatible with respondents' memory and/or current reporting and record keeping practices. The purpose of the survey improvement projects will be to ensure that NASS surveys continuously attempt to meet these standards of excellence.

Improved NASS surveys will inform policy decisions on agriculture, as well as contributing to increased agency efficiency and reduced survey costs. In addition, methodological findings have broader implications for survey research and may be presented in technical papers at conferences or published in the proceedings of conferences or in journals.

The results of these tests won't be disseminated or used to inform policy, program, or budget decisions.

Description of Respondents: Private Sector; Businesses or other for-profits; Farms.

Number of Respondents: 25,000.

Frequency of Responses: On occasion.

Total Burden Hours: 15,000.

Levi S. Harrell,
Departmental Information Collection Clearance Officer.

[FR Doc. 2024-27543 Filed 11-22-24; 8:45 am]

BILLING CODE 3410-20-P